FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than March 19, 2002.

A. Federal Reserve Bank of St. Louis (Randall C. Sumner, Vice President) 411 Locust Street, St. Louis, Missouri 63166-2034:

1. Dennis Frank Doelitzsch, Marion, Illinois; to retain voting shares of Midwest Community Bancshares, Inc., Marion, Illinois, and thereby indirectly retain voting shares of The Bank of Marion, Marion, Illinois, and The Egyptian State Bank, Carrier Mills, Illinois.

2. John Layton Harlin, Gainesville, Missouri; to retain voting shares of Century Bancshares, Inc., Gainesville, Missouri, and thereby indirectly retain voting shares of Century Bank of the Ozarks, Gainesville, Missouri.

B. Federal Reserve Bank of Minneapolis (Julie Stackhouse, Vice President) 90 Hennepin Avenue, Minneapolis, Minnesota 55480-0291:

1. The Thelen Family Limited Liability Limited Partnership 2, Baxter, Minnesota; to acquire voting shares of American Bancorporation of Minnesota, Inc., Brainerd, Minnesota, and thereby indirectly acquire voting shares of American National Bank of Minnesota, Brainerd, Minnesota.

Board of Governors of the Federal Reserve System, February 27, 2002.
Robert deV. Frierson,
Deputy Secretary of the Board.

[FR Doc. 02-5095 Filed 3-1-02; 8:45 am]

BILLING CODE 6210-01-S